LEGAL SERVICES CORPORATION

Notice of Funding Availability for Calendar Year 2014 Competitive Grant Funds Request for Proposals: 2014 Competitive Grant Funds

AGENCY: Legal Services Corporation.

ACTION: Notice.

SUMMARY: The Legal Services Corporation (LSC) is the national organization charged with administering Federal funds provided for civil legal services to low-income people.

This Request for Proposals (RFP) announces the availability of competitive grant funds and is soliciting grant proposals from interested parties who are qualified to provide effective, efficient and high quality civil legal services to eligible clients in the service area(s) of the states and territories identified below. The exact amount of congressionally appropriated funds and the date, terms, and conditions of their availability for calendar year 2014 have not been determined.

DATES: This RFP is available the week of April 8, 2013. Legal Services Corporation must receive all applicants' Notice of Intent to Compete (NIC) on or before May 10, 2013, 5:00 p.m., E.T. Other key application and filing dates, including the dates for filing grant applications, are published at www.grants.lsc.gov/resources/notices.

ADDRESSES: Legal Services Corporation: Competitive Grants, located at 3333 K Street NW., Third Floor, Washington, DC, 20007-3522.

FOR FURTHER INFORMATION CONTACT: The Office of Program Performance by email at competition@lsc.gov, or visit the grants competition Web site at www.grants.lsc.gov.

SUPPLEMENTARY INFORMATION: LSC will accept proposals from any of the following entities: (1) Non-profit organizations that have as a purpose the provision of legal assistance to eligible clients; (2) private attorneys; (3) groups of private attorneys or law firms; (4) state or local governments; or (5) sub-state regional planning and coordination agencies that are composed of sub-state areas and whose governing boards are controlled by locally elected officials.

The RFP, containing the NIC and grant application, guidelines, proposal content requirements, service area descriptions, and specific selection criteria, will be available at www.grants.lsc.gov the week of April 8, 2013.

Below are the service areas for which LSC is requesting grant proposals. Service area descriptions will be available at www.grants.lsc.gov/about-grants/where-we-fund. LSC will post all updates and/or changes to this notice at www.grants.lsc.gov. Interested parties are asked to visit www.grants.lsc.gov regularly for updates on the LSC competitive grants process.

State or Territory | Service Area(s)
Alabama | MAL.
American Samoa | AS-1.
Arizona | AZ-2, AZ-3, AZ-5, MAZ, NAZ-5, NAZ-6.
Arkansas | AR-6, AR-7, MAR.
California | CA-1, CA-27, CA-28, NCA-1.
Connecticut | CT-1.
Delaware | MDE.
District of Columbia | DC-1.
Illinois | IL-3, IL-7.
Kentucky | KY-10, KY-2, KY-5, KY-9, MKY.
Louisiana | LA-1, LA-12, MLA.
Maryland | MD-1, MMD.
Massachusetts | MA-10, MA-11.
Michigan | MI-12, MI-13, MI-15, MI-9, MMI, NMI-1.
Minnesota | MN-1, MN-4, MN-5, MN-6, MMN.
Mississippi | MS-10, MS-9, MMS, NMS-1.
Missouri | MO-3, MO-4, MO-5, MO-7, MMO.
New Hampshire | NH-1.
New Mexico | NM-1, NM-5, MNM, NNM-2, NNM-4.
New York | NY-9.
North Dakota | ND-3, MND, NND-3.
Ohio | OH-18, OH-20, OH-21, OH-23, MOH.
Oklahoma | MOK, NOK-1.
Pennsylvania | PA-24.
Puerto Rico | PR-2.
South Dakota | SD-2, SD-4, NSD-1.
Tennessee | TN-10, TN-4, TN-7, TN-9, MTN.
Texas | TX-13, TX-14, TX-15, MTX, NTX-1.
Vermont | VT-1.
Virginia | VA-17, VA-18, VA-19, VA-20, MVA.
West Virginia | WV-5.
Wisconsin | WI-5, MWI.
Wyoming | WY-4, NWY-1.

Dated: March 21, 2013.
Victor Fortuno,
General Counsel & Vice President, Legal Services Corporation.

[FR Doc. 2013-07269 Filed 3-28-13; 8:45 am]

BILLING CODE 7050-01-P